DEPARTMENT OF VETERANS AFFAIRS

Letter of Intent To Apply for Funding Available Under the Supportive Services for Veteran Families Program

AGENCY: Department of Veterans Affairs.

ACTION: Notice; Letter of Intent.

SUMMARY: The Department of Veterans Affairs (VA) requests that eligible entities interested in applying for funding under the Supportive Services for Veteran Families (SSVF) Program submit a letter of intent. The SSVF Program expects to publish a notice of funding availability (NOFA) in fiscal year (FY) 2013. The NOFA will contain information concerning the SSVF Program, initial and renewal supportive services grant application processes, and amount of funding available.

DATES: Interested organizations are encouraged to submit a nonbinding letter of intent to apply for initial and renewal supportive services grants under the SSVF Program by 4:00 p.m. Eastern Time on September 28, 2012.

For a Copy of the Letter of Intent Format: Download directly from the SSVF Program Web page which can be found at www.va.gov/homeless/ssvf.asp. Questions should be referred to the SSVF Program Office via phone at (877) 737-0111 (this is a toll-free number) or via email at SSVF@va.gov. For detailed SSVF Program information and requirements, see title 38 CFR part 62.

Submission of Letter of Intent: Letters of intent should be submitted electronically to the SSVF Program Office via email at SSVF@va.gov.

FOR FURTHER INFORMATION CONTACT: John Kuhn, Supportive Services for Veteran Families Program Office, National Center on Homelessness Among Veterans, 4100 Chester Avenue, Suite 201, Philadelphia, PA 19104; (877) 737-0111 (this is a toll-free number); SSVF@va.gov.

SUPPLEMENTARY INFORMATION: This letter of intent is requested in anticipation of a planned NOFA to be issued in FY 2013. Please refer to title 38 CFR part 62 for detailed SSVF Program information and requirements.

A. Purpose: The SSVF Program's purpose is to provide supportive services grants to private non-profit organizations and consumer cooperatives who will coordinate or provide supportive services to very low-income Veteran families who are residing in permanent housing, are homeless and scheduled to become residents of permanent housing within a specified time period, or after exiting permanent housing, are seeking other housing that is responsive to such very low-income veteran family's needs and preferences.

B. Definitions: Sections 62.2 and 62.11(a) of title 38, Code of Federal Regulations, contain definitions of terms used in the SSVF Program.

C. Approach: Grantees will be expected to leverage supportive services grant funds to enhance the housing stability of very low-income Veteran families who are occupying permanent housing. In doing so, grantees are required to establish relationships with local community resources. The aim of the provision of supportive services is to assist very low-income veteran families. Accordingly, VA encourages eligible entities skilled in facilitating housing stability and currently operating rapid re-housing programs (i.e., administering the Department of Housing and Urban Development's (HUD) Homelessness Prevention and Rapid Re-Housing Program, HUD's Emergency Solution Grant, or other comparable Federal or community resources) to apply for supportive services grants. The SSVF Program is not intended to provide long-term support for participants, nor will it be able to address all of the financial and supportive services needs of participants that affect housing stability. Rather, when participants require long-term support, grantees should focus on connecting such participants to mainstream Federal and community resources (e.g., HUD-VA Supportive Housing Program, HUD Housing Choice Voucher programs, McKinney-Vento funded supportive housing programs, Temporary Assistance for Needy Families, etc.) that can provide ongoing support. Assistance in obtaining or retaining permanent housing is a fundamental goal of the SSVF Program. Grantees are expected to provide case management services in accordance with 38 CFR 62.21.

D. Authority: The SSVF Program is authorized by title 38 U.S.C. 2044, amended by the Veterans Health Care Facilities Capital Improvement Act of 2011, Public Law 112-37. VA implements the SSVF program by regulation in title 38 CFR part 62.

Dated: August 16, 2012.
John R. Gingrich,
Chief of Staff.

[FR Doc. 2012-20761 Filed 8-22-12; 8:45 am]

BILLING CODE 8320-01-P